DEPARTMENT OF AGRICULTURE

Forest Service

Caribou-Targhee National Forest, Idaho; John Wood Forest Management Project

AGENCY: Forest Service, USDA.

ACTION: Notice of intent to prepare an environmental impact statement.

SUMMARY: The Soda Springs Ranger District proposes to conduct forest vegetation management activities and road work in a 5,590-acre project area within the Wood Canyon and Johnson Creek drainages located in the Caribou-Targhee National Forest, approximately six miles east of Soda Springs, Idaho. The project area has a forest vegetation management emphasis designated in the Caribou Revised Forest Plan (RFP) (2003). Overall, the landscape in which the project area is located has been identified as being outside of desired conditions outlined in the RFP with respect to forest structure and species composition.

DATES: Comments concerning the scope of the analysis must be received by May 1, 2017. The draft environmental impact statement is expected August 2017 and the final environmental impact statement is expected October 2017.

ADDRESSES: Send written comments to Soda Springs Ranger District, 410 East Hooper Avenue, Soda Springs, ID 83276. Comments may also be sent via email to comments-intermtn-caribou-targhee-soda-springs@fs.fed.us or via facsimile to (208) 547-2235.

FOR FURTHER INFORMATION CONTACT: Wayne Beck, Project Leader, (208) 847-8941. A public scoping letter with more details is posted on the forest Web site (https://www.fs.usda.gov/projects/ctnf/landmanagement/ projects). In addition, a copy of the Caribou RFP is available on the forest Web site (https://www.fs.usda.gov/main/ctnf/landmanagement/planning).

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project proposal is to improve the overall composition, health and resilience of the forest within the project area, utilize and improve timber resources, and improve the Forest transportation system.

The project proposal is needed because a fire regime condition class assessment of the forested landscape indicated that the landscape qualifies as Condition Class 2. This means that the vegetation composition, structure and fuels have moderate departure from the natural regime and predispose the system to risk of loss of key ecosystem components. Also, the project area is within a Caribou RFP 5.2 prescription area. The emphasis in this prescription area is on scheduled wood-fiber production, timber growth and yield, while maintaining or restoring forested ecosystems (RFP at 4-71). This prescription area also sets the following guidelines: [p]ractices to prevent or control natural disturbances, such as insects and disease losses and wildfire, are emphasized. (RFP at 4-72) and where aspen exists, it should be maintained or enhanced as a component through restoration treatments (RFP at 4-72). Many of the stands in the project area that were previously harvested are becoming overly dense, which impacts growth and yield and increases risk to forest pests such as the western spruce budworm. Finally, there is a need to address the poor condition and resource concerns of the existing transportation system within the project area.

Proposed Action

A combination of vegetation management activities would occur on approximately 760 acres. More specifically, approximately 395 acres are proposed for selection harvest, which would require approximately 1.6 miles of temporary road construction to facilitate the harvest. Additionally, approximately 365 acres are proposed for non-harvest stand-tending treatments (pre-commercial thinning, piling, pile burning, jackpot burning and chopping).

Several different types of road work are also proposed. The road work is proposed to meet transportation system needs for timber removal, resource needs, and public safety. It is proposed to reconstruct and improve the condition of approximately 5.1 miles of roads within the project area. This would include activities such as blading and shaping the road bed, spot graveling, culvert replacements, and other minor repairs. Approximately, 2.3 miles of road has been identified as needing to be relocated to address resource concerns. These roads will be located in the same general area, but large portions will be moved to a new foot print. Additionally, it is proposed to construct Road 574 in a more sustainable location (1.6 miles new construction), obliterate the previous location along with several other short segments of road (2.1 miles), and close 0.3 miles. Development of a gravel pit within the project area is also be considered.

Possible Alternatives

The Forest Service would develop alternatives to the proposed action based on internal and public scoping comments and analyze any viable alternatives in a draft environmental impact statement.

Responsible Official

Soda Springs District Ranger, Bryan K. Fuell, is the responsible official.

Nature of Decision To Be Made

The decisions to be made include whether to implement the proposed action, as designed; whether there are other alternatives capable of satisfying the purpose and need; and whether any mitigation measures or monitoring is required to implement the proposed action or alternatives. These decisions would be made in the record of decision, which would be issued following the publication of a final environmental impact statement and completion of the Forest Service objection process (36 CFR part 218, subparts A and B).

Scoping Process

This notice of intent initiates the scoping process, which guides the development of the environmental impact statement. At this time, no public meeting will be held. This decision may be reconsidered depending on the outcome of scoping. In addition to this notice of intent, a legal notice will be published in the Idaho State Journal, newspaper of record, to ensure wide distribution of this notice.

It is important that reviewers provide their comments at such times and in such manner that they are useful to the agency's preparation of the environmental impact statement. Therefore, comments should be provided prior to the close of the comment period and should clearly articulate the reviewer's concerns and contentions. Per 36 CFR 218, only those who provide specific written comments regarding the proposed project or activity will be eligible to file an objection. Comments received in response to this solicitation, including names and addresses of those who comment, will be part of the public record for this proposed action. Comments submitted anonymously will be accepted and considered, however, anonymous comments will not provide the Agency with the ability to provide the respondent with subsequent environmental documents.

An additional opportunity for public participation will occur during the public comment period on the draft environmental impact statement, which will be initiated by the publication of a notice of availability in the Federal Register.

Dated: March 22, 2017.
Jeanne M. Higgins,
Associate Deputy Chief, National Forest System.

[FR Doc. 2017-06273 Filed 3-29-17; 8:45 am]

BILLING CODE 3411-15-P